DEPARTMENT OF THE INTERIOR

Bureau of Land Management

[CA-680-99-2822-00-D889]

Closure and Restriction Orders

AGENCY: Bureau of Land Management, (BLM), Interior.

ACTION: Amend emergency closure of certain public lands in the Juniper Flats area, San Bernardino County, California.

SUMMARY: In previous Federal Register Notice, Public lands in the Juniper Flats area were closed to human entry. Approximately 16,000 acres burned in the Willow fire were closed from October 17, 1999 to July 1, 2000. You are not to enter the closed area by any means of access. This amendment exempts human access on the trail leading from the southern most portion of the Bowen Ranch property (across BLM land referred to as the “upper parking lot” to the Forest Service “lower parking lot”) and trail known as the “Goat Trail” leading to the Deep Creek Springs.

DATES: This amendment goes into effect at 11:59 p.m. on Friday, May 26, 2000 and shall remain in effect until 11:59 p.m. on Saturday, July 1, 2000.

FOR FURTHER INFORMATION CONTACT: Tim Read, Barstow Field Office Manager, Bureau of Land Management, 2601 Barstow Road, Barstow, CA 92311; or call (760) 252-6000.

SUPPLEMENTARY INFORMATION: On Saturday August 28th, the Willow Fire started on U.S. Forest Service lands adjacent to BLM lands in the Juniper Flats area. The fire burned 63,486 acres, including approximately 16,000 acres of BLM land.

Natural resources comprising the local ecosystems were extensively damaged by the fire. The affected public land has been closed to human entry since the fire. Over the winter the vegetation began growing back. This indicates the natural systems are beginning to recover. The closure is now amended to exempt human access on the trail leading to the Deep Creek Hot Springs. The trail is well marked and is located in T.3N. R. 3W. Section 11.

In general, the closed pubic lands are east of Deep Creek Road, south of the Atchison Topeka and Sante Fe rail lines, west of Highway 18, and north of Deep Creek. The authority for this closure is 43 CFR 8364.1, 18 U.S.C. 3571. This closure only applies to those portions of the following sections burned during the Willow Fire: San Bernardino Base and Meridian, T.3N. R.1W. sections 2, 3, 4, 5 and 6; T.3N. R.2W. sections 1, 2, 3, 4, 5, 6, 7 and 8: T.3N. R.3W. sections 1, 2, 3, 4, 5, 6, 7, 8, 9, 10, 11 and 12; T.4N. R.1W. sections 31 and 32; T.4N. R.2W. sections 26, 27, 28, 29, 31, 32, 33, 34 and 35: T.4N. R.3W. sections 21, 22, 23, 24, 25, 26, 27, 28, 30, 31, 32, 33, 34 and 35. If you fail to comply with this closure order you may be fined up to $100,000.00 or be imprisoned for up to 12 months, or both.

You are exempt from this closure if you are engaged in one of these activities: law enforcement, emergency services, government business, or work to maintain utilities and infrastructure. You may be exempt if permitted by a BLM Authorizing Officer. You and your guests are exempt to access your residence or property if it is within the closed area. This closure only affects public lands. County roads and segments of roads through private lands are unaffected. You are exempt to use the portion of Bowen Ranch Road that is a County road. The exempt portion crosses public lands in section 31 of T.4N. R.2W., and sections 1, 11 and 12 of T.3N. R.3W., ending at the boundary of the Bowen Ranch.

Tim Read,
BLM, Barstow Field Office Manager.

[FR Doc. 00-16267 Filed 6-27-00; 8:45 am]

BILLING CODE 4310-40-M